NUCLEAR REGULATORY COMMISSION

[Docket No. 50-331]

Nuclear Management Company, LLC, Duane Arnold Energy Center; Environmental Assessment and Finding of No Significant Impact

The U.S. Nuclear Regulatory Commission (NRC) is considering issuance of an amendment to Facility Operating License No. DPR-49, issued to Nuclear Management Company, LLC (the licensed operator) and IES Utilities Inc., Central Iowa Power Cooperative, Corn Belt Power Cooperative (the licensed owners), for operation of the Duane Arnold Energy Center, located in Linn County, Iowa.

Environmental Assessment

Identification of the Proposed

The proposed action would revise Facility Operating License No. DPR-49 to reflect the change in one of the licensee's names from IES Utilities Inc., to Interstate Power and Light Company.

The proposed action is in accordance with IES Utilities Inc.'s application for license amendment dated June 14, 2000, adopted by Nuclear Management Company, LLC, by letter to the NRC dated October 5, 2000.

The Need for the Proposed Action

The proposed action is needed to have the license accurately reflect the new legal name of the licensee. The proposed action will reflect the results of plans by the Alliant Energy Corporation (AEC, owner of IES Utilities Inc.) to merge and consolidate another utility it owns, Interstate Power Company, with IES Utilities Inc. (IES), and change the name of the surviving corporation, IES, to Interstate Power and Light Company.

Environmental Impacts of the Proposed Action

The NRC has completed its evaluation of the proposed change to the license and concludes that there will be no impact on the status of the operating license (OL) or the continued operation of the plant, since the proposed change is solely administrative in nature. The proposed change updates the OL so that references to the licensee's name will be consistent with the new corporate name, Interstate Power and Light Company, of the licensee.

The proposed change is administrative in nature and will not increase the probability or consequences of accidents, no changes are being made in the types or amounts of any effluents that may be released offsite, and there is no significant increase in occupational or public radiation exposure. Therefore, the NRC concludes that there are no significant radiological environmental impacts associated with the proposed action.

With regard to potential nonradiological impacts, the proposed action does not involve any historic sites. The proposed change is administrative in nature and does not involve any physical features of the plant. Thus, the proposed change does not affect nonradiological plant effluents and has no other environmental impact. Therefore, there are no significant nonradiological environmental impacts associated with the proposed action.

Accordingly, the NRC concludes that there are no significant environmental impacts associated with the proposed action.

Alternatives to the Proposed Action

As an alternative to the proposed action, the NRC staff considered denial of the proposed action (i.e., the “no action” alternative). Denial of the application would result in no change in current environmental impacts. The environmental impacts of the proposed action and the alternative action are similar.

Alternative Use of Resources

This action does not involve the use of any resources not previously considered in the “Final Environmental Statement Relating to the Operation of Duane Arnold Energy Center,” dated March 1973.

Agencies and Persons Consulted

In accordance with its stated policy, the NRC staff consulted with the Iowa State official, Mr. D. Fleeter of the Department of Public Health, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the application dated June 14, 2000. Documents may be examined, and/or copied for a fee, at the NRC's Public Document Room, located at One White Flint North, 11555 Rockville Pike (first floor), Rockville, Maryland. Publicly available records will be accessible electronically from the ADAMS Public Library component on the NRC Web site, http://www.nrc.gov (the Electronic Reading Room).

Dated at Rockville, Maryland, this 3rd day of January 2001.
For the Nuclear Regulatory Commission.
John F. Stang,
Senior Project Manager, Section 1, Project Directorate III, Division of Licensing Project Management, Office of Nuclear Reactor Regulation.

[FR Doc. 01-731 Filed 1-9-01; 8:45 am]

BILLING CODE 7590-01-P